DEPARTMENT OF HOMELAND SECURITY

Coast Guard

33 CFR Part 117

[CGD13-06-014]

RIN 1625-AA09

Drawbridge Operation Regulations; Lake Washington Ship Canal, WA

AGENCY: Coast Guard, DHS.

ACTION: Temporary final rule.

SUMMARY: The Coast Guard is temporarily revising the drawbridge operation regulations for the Ballard Bridge, mile 1.1, and the Fremont Bridge, mile 2.6, across the Lake Washington Ship Canal at Seattle, Washington. The temporary change will increase the two daily closed draw periods by one hour each from May 30, 2006 through March 30, 2007. This will facilitate road traffic, which will be severely limited by lane closures during the rebuilding of the approaches to the Fremont Bridge.

DATES: This temporary rule is effective from May 30, 2006 to March 30, 2007.

ADDRESSES: Documents indicated in this preamble as being available in the docket are part of docket [CGD13-06-014] and are available for inspection or copying at the Waterways Management Branch, 13th Coast Guard District, 915 Second Avenue, Seattle, WA 98174-1067 between 7:30 a.m. and 4 p.m., Monday through Friday, except Federal holidays.

FOR FURTHER INFORMATION CONTACT: Austin Pratt, Chief, Bridge Section, (206) 220-7282.

SUPPLEMENTARY INFORMATION:

Regulatory Information

We did not publish a notice of proposed rulemaking (NPRM) for this regulation. Under 5 U.S.C. 553(b)(B), the Coast Guard finds that good cause exists for not publishing an NPRM. The City of Seattle requested this temporary change after first studying traffic signals, lane closures and other aspects of the project before concluding that this change might significantly mitigate traffic congestion on the affected arterials with minimal impact to navigation. The change would affect only one or two draw openings per day on average. The city, which owns the bridges, has conducted public outreach concerning the project and its request to change the operating schedule of the drawspans temporarily. This has included several neighborhood meetings in the project area. In addition, the Coast Guard has consulted directly with the regular commercial users of the waterway to determine that significant economic impact will not occur. Most recreational and commercial vessel operators are accustomed to the existing closed periods and will be able to adjust transit times to the temporary increase.

Background and Purpose

The temporary rule will enable the Seattle Department of Transportation (SDOT), the owner of the bridges, to rebuild the approaches of the Fremont Bridge and compensate partly during construction for the reduced road capacity. Necessary lane closures during the project would reduce traffic capacity by half on the Fremont Bridge. The Ballard Bridge to the west is an alternate parallel route. It is also a bascule bridge like the Fremont Bridge and has the same operating regulations. The bridge owner requested that the current closed periods of both bridges be extended Monday through Friday from 7 a.m.-9 a.m. to 7 a.m.-10 a.m. and from 4 p.m.-6 p.m. to 3:30 p.m.-6:30 p.m.

The road surface and drawspans receive heavy use. Both bridges are on major city arterials that are also commuter routes. The Lake Washington Ship Canal is a major commercial and recreational waterway in Seattle. Tugs, barges, motor yachts, small freighters, sailboats, and government vessels travel the canal. Government vessels include those of the Coast Guard, National Oceanographic and Atmospheric Administration, University of Washington, Seattle Police and Fire Departments, etc. Lake Union Shipyard is located inland of both bridges.

The Coast Guard has examined the number of openings at these bridges from May 2004 to May 2005, a period comparable to the one affected temporarily. The number of openings in this year of records ranges from 159 to 327 in each time segment proposed in this rule. For example, in the morning extension from 9 a.m. to 10 a.m. the Ballard draw opened 224 times. However, when these openings are averaged for the entire period examined, the average number of openings for each extension ranges from less than one to less than two per day. In other words, the increased duration of the temporary closed periods has little effect on the potential openings during the average day of the week. For this reason, the temporary operating schedule does not seem unreasonably burdensome to mariners already accustomed to closed periods at these bridges. It does seem likely that the draws might remain open a little longer to pass a few extra vessels at the end of these temporary periods of draw closure.

Discussion of Proposed Rule

The operating regulations currently in effect for the Ballard and Fremont Drawbridge are found at 33 CFR 117.1051. A one-hour extension of the morning and afternoon closed periods will help accommodate traffic that would already be impeded by lane closures during the construction at the Fremont Bridge. The current weekday periods are from 7 a.m. to 9 a.m. and from 4 p.m. to 6 p.m. These periods approximate the peak commuter traffic hours on these busy arterials. The proposed periods would be 7 a.m. to 10 a.m. and from 3:30 p.m. to 6:30 p.m. These periods would also apply to these Federal holidays, which are otherwise exempt from these closed periods: Martin Luther King's Birthday, President's Day, and Veteran's Day. These holidays continue to have heavy traffic volumes. Vessels of one thousand gross tons may receive an opening of the draw at any time. These requests are not frequent.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

We expect the economic impact of this rule to be so minimal that a full Regulatory Evaluation under the regulatory policies and procedures of DHS is unnecessary.

With regards to the temporary changes, we reached this conclusion based on the fact that most vessel operators are accustomed to closed periods already on these bridges. Furthermore, they should be able to plan transits in advance and being locally based for the most part will soon adjust to the temporary change.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This is attributed to the small number of potential openings that would be affected on a daily basis.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Austin Pratt, Chief, Bridge Section, at (206) 220-7282. The Coast Guard will not retaliate against small entities that question or complain about this rule or any policy or action of the Coast Guard.

Collection of Information

This rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of Information and Regulatory Affairs has not designated this as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation. There are no expected environmental consequences of the proposed action that would require further analysis and documentation.

List of Subjects in 33 CFR Part 117

Bridges.

Regulations

For the reasons discussed in the preamble, the Coast Guard temporarily amends 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. From May 30, 2006 to March 30, 2007 amend § 117.1051 by suspending paragraph (d)(2) and adding paragraph (d)(4) to read as follows:

§ 117.1051 Lake Washington Ship Canal.

* * * * *

(d) * * *

(4) The draws of the Ballard and Fremont Bridges need not open from 7 a.m. to 10 a.m. and from 3:30 p.m. to 6:30 p.m., Monday through Friday, except on all Federal holidays, but Columbus Day, Martin Luther King Day, President's Day, and Veteran's Day. The draw of the University Bridge need not open from 7 a.m. to 9 a.m. and from 4 p.m. to 6 p.m., Monday through Friday, except Federal holidays. A vessel of any size towing another vessel of 1000 gross tons or more shall receive an opening on signal at any of these draws at any time.

* * * * *

Dated: April 28, 2006.
R.R. Houck,
Rear Admiral, U.S. Coast Guard, Commander, Thirteenth Coast Guard District.

[FR Doc. 06-4322 Filed 5-8-06; 8:45 am]

BILLING CODE 4910-15-P